DEPARTMENT OF HEALTH AND HUMAN SERVICES

Centers for Medicare & Medicaid Services

[Document Identifier: CMS-3070G-I, CMS-R-38 and CMS-10636]

Agency Information Collection Activities: Proposed Collection; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments must be received by January 3, 2017.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number ___, Room C4-26-05, 7500 Security Boulevard, Baltimore, Maryland 21244-1850.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION:

Contents

This notice sets out a summary of the use and burden associated with the following information collections. More detailed information can be found in each collection's supporting statement and associated materials (see ADDRESSES).

CMS-3070G-I | ICF/IID Survey Report Form and Supporting Regulations.
CMS-R-38 | Conditions for Certification for Rural Health Clinics.
CMS-10636 | Three-Year Network Adequacy Review for Medicare Advantage Organizations.

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: Revision of a currently approved collection; Title of Information Collection: ICF/IID Survey Report Form and Supporting Regulations; Use: The information collected with forms 3070G-I is used to determine the level of compliance with Intermediate Care Facilities for Individuals with Intellectual Disabilities (ICF/IID) CoPs necessary to participate in the Medicare/Medicaid program. Information needed to monitor the State's performance as well as the ICF/IID program in general, is available to CMS only through the use of information abstracted from the survey report form. The form serves as a coding worksheet designed to facilitate data entry and retrieval into the Automated Survey Processing Environment Suite (ASPEN) in the State and at the CMS regional offices. Form Number: CMS-3070G-I (OMB Control Number: 0938-0062); Frequency: Reporting—Yearly; Affected Public: Private Sector: Business or other for-profits and Not-for-profit institutions; Number of Respondents: 6,310; Total Annual Responses: 6,310; Total Annual Hours: 18,930. (For policy questions regarding this collection contact Melissa Rice at 410-786-3270.)

2. Type of Information Collection Request: Revision of a currently approved collection; Title of Information Collection: Conditions for Certification for Rural Health Clinics; Use: The Rural Health Clinic (RHC) conditions of certification are based on criteria prescribed in law and are designed to ensure that each facility has a properly trained staff to provide appropriate care and to assure a safe physical environment for patients. We use these conditions of participation to certify RHCs wishing to participate in the Medicare program. These requirements are similar in intent to standards developed by industry organizations such as the Joint Commission on Accreditation of Hospitals, and the National League of Nursing and the American Public Association and merely reflect accepted standards of management and care to which rural health clinics must adhere. Form Number: CMS-R-38 (OMB control number: 0938-0334); Frequency: Recordkeeping and Reporting—Annually; Affected Public: Business or other for-profits; Number of Respondents: 4,247; Total Annual Responses: 4,247; Total Annual Hours: 18,284. (For policy questions regarding this collection contact Jacqueline Leach at 410-786-4282.)

3. Type of Information Collection Request: New collection (Request for a new OMB control number); Title of Information Collection: Three-Year Network Adequacy Review for Medicare Advantage Organizations; Use: The CMS regulations at 42 CFR 422.112(a)(1)(i) and § 422.114(a)(3)(ii) require that all Medicare Advantage organizations (MAOs) offering coordinated care plans (e.g., HMO, PPO) or other network-based plans (e.g., network-based PFFS, network-based MSA, section 1876 cost plan) maintain a network of appropriate providers that is sufficient to provide adequate access to covered services to meet the needs of the population served. To enforce this requirement, CMS has developed network adequacy criteria, which sets forth the minimum number of providers and maximum travel time and distance from enrollees to providers, for each provider specialty type in each county in the United States and its territories. MAOs must be in compliance with the current CMS network adequacy criteria. This proposed collection of information is essential to appropriate and timely compliance monitoring by CMS, in order to ensure that all active MAO contracts offering network-based plans maintain an adequate network. Currently, CMS verifies that MAOs are compliant with the current CMS network adequacy criteria by performing a contract-level network review, which occurs when CMS requests that an MAO upload provider and facility Health Service Delivery (HSD) tables for a given contract to the Health Plan Management System (HPMS). If an MAO does not have its contract-level network formally reviewed by CMS after the initial contract application process, then there is no CMS requirement for a network adequacy review unless one of the above listed triggering events occurs. Therefore, CMS is proposing this collection of information in order to improve monitoring of MAOs' network adequacy. This collection of information requires the uploading of HSD tables to the Network Management Module (NMM) in HPMS for any contract that has not had an entire network review performed by CMS in the previous three years of contract operation. The collection process will occur at the contract level for each MAO that qualifies, and CMS will assess each contract against the current CMS network adequacy criteria. Each time an MAO's contract undergoes an entire network review during any of the triggering events listed on page one, the three-year anniversary date for that contract will be reset, and CMS will maintain an HPMS report to keep track of this date for every active network-based contract. Form Number: CMS-10636 (OMB control number 0938-New); Frequency: Yearly; Affected Public: Private sector (Business or other for-profits); Number of Respondents: 484; Total Annual Responses: 1,652; Total Annual Hours: 15,692. (For policy questions regarding this collection contact Theresa Wachter at 410-786-1157.)

Dated: November 1, 2016.
William N. Parham, III,
Director, Paperwork Reduction Staff, Office of Strategic Operations and Regulatory Affairs.

[FR Doc. 2016-26745 Filed 11-3-16; 8:45 am]

BILLING CODE 4120-01-P